DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of January 28, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Levy County, Florida and Incorporated Areas
Docket No.: FEMA-B-2060
Town of Bronson | Town Hall, 650 Oak Street, Bronson, FL 32621.
Town of Otter Creek | Town Hall, 555 Southwest 2nd Avenue, Otter Creek, FL 32683.
Unincorporated Areas of Levy County | Levy County Building Department, 622 East Hathaway Avenue, Bronson, FL 32621.
Jackson County, Iowa and Incorporated Areas
Docket No.: FEMA-B-2047
City of Baldwin | City Hall, 4746 50th Avenue, Baldwin, IA 52207.
City of Bellevue | City Hall, 106 North 3rd Street, Bellevue, IA 52031.
City of La Motte | City Hall, 102 South Main Street, La Motte, IA 52054.
City of Maquoketa | City Hall, 201 East Pleasant Street, Maquoketa, IA 52060.
City of Miles | City Hall, 430 Ferry Road, Miles, IA 52064.
City of Monmouth | City Hall, 501 North Division Street, Monmouth, IA 52309.
City of Preston | City Hall, 1 West Gillet Street, Preston, IA 52069.
City of Sabula | City Hall, 411 Broad Street, Sabula, IA 52070.
City of Spragueville | City Hall, 127 East Main Street, Spragueville, IA 52074.
City of Springbrook | City Hall, 203 North 12th Street, Springbrook, IA 52075.
City of St. Donatus | City Hall, 114 East 2nd Street, St. Donatus, IA 52071.
Unincorporated Areas of Jackson County | Jackson County Courthouse, 201 West Platt Street, Maquoketa, IA 52060.
Muscatine County, Iowa and Incorporated Areas
Docket No.: FEMA-B-1933 and FEMA-B-2055
City of Atalissa | City Hall, 122 3rd Street, Atalissa, IA 52720.
City of Muscatine | City Hall, 215 Sycamore Street, Muscatine, IA 52761.
City of Nichols | City Hall, 429 Ijem Avenue, Nichols, IA 52766.
City of Stockton | City Hall, 318 Commerce Street, Stockton, IA 52769.
City of West Liberty | City Hall, 409 North Calhoun Street, West Liberty, IA 52776.
City of Wilton | City Hall, 104 East 4th Street, Wilton, IA 52778.
Unincorporated Areas of Muscatine County | Muscatine County Building, 3610 Park Avenue West, Muscatine, IA 52761.

[FR Doc. 2021-20980 Filed 9-27-21; 8:45 am]

BILLING CODE 9110-12-P